FEDERAL COMMUNICATIONS COMMISSION

47 CFR Part 95

[GN Docket No. 12-354; DA 13-298]

Commercial Operations in the 3550-3650 MHz Band

AGENCY: Federal Communications Commission.

ACTION: Proposed rule; extension of comment period.

SUMMARY: The Federal Communications Commission extends the deadline for filing reply comments on its Notice of Proposed Rulemaking (NPRM), in this proceeding, which was published in the Federal Register at 78 FR 1188, January 8, 2013. Reply comments are now due on April 5, 2013.

DATES: Submit reply comments on or before April 5, 2013.

ADDRESSES: You may submit comments, identified by GN Docket No. 12-354; FCC 12-148, by any of the following methods:

• Federal Communications Commission's Web Site: http://fjallfoss.fcc.gov/ecfs2/. Follow the instructions for submitting comments.

• Mail: All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington DC 20554.

• People with Disabilities: Contact the FCC to request reasonable accommodations (accessible format documents, sign language interpreters, CART, etc.) by email: FCC504@fcc.gov or phone: 202-418-0530 or TTY: 202-418-0432.

FOR FURTHER INFORMATION CONTACT: Paul Powell, Attorney Advisor, Wireless Bureau's Mobility Division, at (202) 418-1613 or email at Paul.Powell@fcc.gov.

SUPPLEMENTARY INFORMATION: This is a summary of the Commission's Order (Order) in GN Docket No. 12-354, DA 13-298, adopted and released February 28, 2013, which extends the reply comment filing deadline established in the NPRM published under FCC No. 12-148 at 78 FR 1188, January 8, 2013. The full text of this document is available for inspection and copying during normal business hours in the FCC Reference Center, 445 12th Street SW., Washington, DC 20554. The complete text may be purchased from the Commission's copy contractor, Best Copy and Printing, Inc., 445 12th Street SW., Room CY-B402, Washington, DC 20554, (202)488-5300, facsimile (202) 488-5563, or via email at fcc@bcpiweb.com. The full text may also be downloaded at: www.fcc.gov. Alternative formats are available to persons with disabilities by sending an email to fcc504@fcc.gov or by calling the Consumer & Governmental Affairs Bureau at 202-418-0530 (voice), 202-418-0432 (tty).

Summary

1. On December 12, 2012 the Commission released an NPRM in the above captioned proceeding proposing to create a Citizens Broadband Service in the 3.5 GHz Band for innovative small cell uses. The NPRM established February 20, 2013 as the deadline for comments and March 22, 2013 as the deadline for reply comments.

2. Following the release of the NPRM, the Wireless Telecommunications Bureau and Office of Engineering and Technology announced that they would hold a public workshop on the 3.5 GHz NPRM on March 13, 2013. As announced, the workshop will focus on small cell technology “in the context of the 3.5 GHz Band as well as database and dynamic spectrum sharing technologies that could be utilized to managed access to the Band.” The workshop will likely elicit detailed discussions about many aspects of the NPRM, and will take place only seven business days prior to the reply comment deadline. In the interest of developing a comprehensive record in response to the NPRM, including through the workshop and in response to ideas explored at the workshop, the Commission extends the reply deadline established in the NPRM for two weeks on its own motion. Accordingly, reply comments in the above-captioned proceeding are due April 5, 2013.

Ordering Clause

3. Pursuant to sections 4(i), 4(j), and 5(c) of the Communications Act of 1934, as amended, 47 U.S.C. 154(i), 154(j), 155(c), and pursuant to the authority delegated in sections 0.31, 0.51, 0.131, 0.241, 0.261, and 0.331 of the Commission's rules, 47 CFR 0.31, 0.51, 0.131, 0.241, 0.261, 0.331, we extend the reply comment deadline for the above proceeding as discussed herein

4. This action is taken under delegated authority pursuant to sections 0.131 and 0.331 of the Commission's rules, 47 CFR 0.131, and 0.331.

5. A copy of the NPRM, including the Initial Regulatory Flexibility Analysis, has been sent to the Chief Counsel of Advocacy of the Small Business Administration.

Federal Communications Commission.
Ruth Milkman,
Chief, Wireless Telecommunications Bureau.

[FR Doc. 2013-06315 Filed 3-18-13; 8:45 am]

BILLING CODE 6712-01-P